DEPARTMENT OF JUSTICE

Office of Justice Programs

28 CFR Part 94

[Docket No.: OJP (OVC) 1812]

RIN 1121-AA91

International Terrorism Victim Expense Reimbursement Program

AGENCY: Office for Victims of Crime, Justice.

ACTION: Notice of proposed rulemaking.

SUMMARY: The Office for Victims of Crime (“OVC”) of the U.S. Department of Justice's Office of Justice Programs (“OJP”), proposes this rule to amend the program regulations for the International Terrorism Victim Expense Reimbursement Program (“ITVERP”), to streamline program operation, more expressly reflect certain policy and procedures adopted by OVC since it began administering the program in 2006, and to adjust cost category caps.

DATES: Comments must be received by no later than 11:59 p.m., E.T., on March 24, 2025.

ADDRESSES:

Electronic comments: OVC encourages commenters to submit all comments electronically through the Federal eRulemaking Portal, which provides the ability to type comments directly into the comment field on the web page or attach a file. Please go to https://www.regulations.gov and follow the on-line instructions at that site for submitting comments. Upon completion of your submission, you will receive a Comment Tracking Number. Submitted comments are not instantaneously available for public view on regulations.gov. If you have received a Comment Tracking Number, you have submitted your comment successfully and there is no need to resubmit the same comment. Commenters should be aware that the system will not accept comments after 11:59 p.m. Eastern Time on the last day of the comment period.

Paper comments: OVC prefers to receive comments via www.regulations.gov where possible. Paper comments that duplicate electronic submissions are not necessary and are discouraged. Should you wish to mail a paper comment in lieu of an electronic comment, it should be sent via regular or express mail to: ITVERP, Office for Victims of Crime, Office of Justice Programs, U.S. Department of Justice, 810 7th Street NW, Washington, DC 20531.

To ensure proper handling of comments, please reference “OJP Docket No. 1812” on all electronic and written correspondence, including any attachments.

FOR FURTHER INFORMATION CONTACT: Victoria Jolicoeur, International Terrorism Victim Expense Reimbursement Program, Office for Victims of Crime, at 202-307-5134.

SUPPLEMENTARY INFORMATION:

I. Posting of Public Comments

Please note that all comments received are considered part of the public record and made available for public inspection online at www.regulations.gov. Such information includes personal identifying information (such as your name, address, etc.) voluntarily submitted by the commenter. The Freedom of Information Act applies to all comments received.

If you wish to submit personal identifying information (such as your name, address, etc.) as part of your comment, but do not wish for it to be posted online, you must include the phrase “PERSONAL IDENTIFYING INFORMATION” in the first paragraph of your comment. You must also place all of the personal identifying information that you do not want posted online in the first paragraph of your comment, and identify with specificity what information you want the agency to redact.

If you wish to submit confidential business information as part of your comment, but do not wish it to be posted online, you must include the phrase “CONFIDENTIAL BUSINESS INFORMATION” in the first paragraph of your comment. You must also prominently identify all confidential business information to be redacted within the comment. If a comment has so much confidential business information that it cannot be effectively redacted, the agency may choose not to post all or part of that comment.

Personal identifying information identified and located as set forth above will be placed in the agency's public docket file, but not posted online. Confidential business information identified and located as set forth above will not be placed in the public docket file. If you wish to inspect the agency's public docket file in person by appointment, please see the “For Further Information Contact” paragraph.

II. Background

The Victims of Crime Act of 1984 (VOCA), sec. 1404C (34 U.S.C. 20106), added in an amendment to VOCA by the Victims of Trafficking and Violence Protection Act (VTVPA) of 2000, sec. 2003(c), authorizes OVC to reimburse certain expenses to eligible victims of acts of international terrorism. Eligible victims include U.S. nationals, as well as foreign nationals working for the U.S. government at the time of the terrorist act. OVC published a notice of proposed rulemaking at 70 FR 49518-49525, on August 24, 2005, and published the current rule at 71 FR 52446, on September 6, 2006, and it went into effect on October 6, 2006. On April 11, 2011, at 76 FR 19909, OVC published an interim-final rule allowing the Director additional discretion to accept late-filed claims upon a showing of good cause. This was finalized at 88 FR 3656 on January 20, 2023. Aside from the 2011 amendment to the deadline provision, the overall rule, including category caps, has not been updated since the program's inception.

OVC proposes this rule, pursuant to its rulemaking authority at 34 U.S.C. 20110(a), to make minor updates to the regulations to reflect contemporary program policies and procedures adopted by OVC since it began administering the program in 2006, and to adjust cost category caps.

III. Section-by-Section Discussion of Proposed Changes

The following is a summary of the changes that OVC proposes:

Current provision | Proposed change
94.12(c) Definition of Collateral sources | Makes patent longstanding OVC policy of presuming (unless the claimant demonstrates otherwise) that hostile fire or imminent danger pay for U.S. military personnel who claim expenses for incidents occurring in an officially designated combat zone or a qualified hazardous duty area, is a collateral source. Non-substantive changes to improve readability.
94.12(g) Definition of Funeral and burial | Allows reimbursement of travel costs for up to five family members, instead of two. This reflects OVC's observation that it is common for more than two family members to travel to attend victim funerals. Increasing the cap to five would allow OVC to better assist victims with legitimate expenses while maintaining a cap on program expenses for funeral travel.
94.12(i) Definition of Incompetent | Minor change to replace the outdated and offensive term “mental retardation” with “cognitive disability.”
94.12(r) Definition of Property loss | Adds the word “typically” when providing that medical devices are to be included under the medical expense category and not the property loss category. This would replace the current limit with a presumption to allow OVC to characterize medical device loss in the category that maximizes victim reimbursement.
94.12(u) Definition of Victim | Adds the words “Is otherwise unable to submit a claim as a result of the act of terrorism” (in a new subparagraph (iv) under (u)(2)) to allow for the surviving spouse, children, parents, and siblings to be considered victims for purposes of this program when an individual is rendered missing as a result of an act of international terrorism. The Federal Bureau of Investigation (FBI) has indicated to OVC that it has encountered victims who would have found such support from ITVERP to be beneficial.
94.21 Eligibility | Clarifies OVC's longstanding practice of allowing applicants to submit an initial application, followed by supplemental applications for expenses incurred after the initial application (e.g., ongoing medical care).
94.23 Amount of reimbursement | Clarifies that the reimbursement cap in effect at the time that the application (whether initial or supplemental) is received is the cap that applies to all awards under that application. Thus, an applicant may file a supplemental claim to take advantage of a higher cap limit in categories where that applicant previously hit the cap. This rule increases the administrative burden on OVC to determine additional supplemental claims, but OVC anticipates being able to manage this burden within current program resources due to the ITVERP's relatively small size. The change has the benefit of providing better coverage of actual victim expenses and avoiding discrepancies between caps applied to claimants under the same incident who filed at different times. The proposed provision also adds language to automatically adjust the caps for inflation every five years.
94.24 Determination of the award | Makes patent OVC's preferred practice of providing claimant notification via electronic means (e.g., email or its claims management system) by default.
94.25 Collateral sources | Makes non-substantive edits to paragraph (a) to clarify the provision, which addresses when offset of ITVERP reimbursement because of collateral sources is required.
94.31 Application procedures | Makes patent OVC's current practice (required by the ITVERP electronic claim system) of requiring all claimants to submit an itemized list of incident-related expenses for which they seek reimbursement, and to certify and attest to the veracity of that list and the supporting documentation. Adds that such certification must be made “under penalty of perjury” to make patent the penalty for a false certification. It also permits the Director to accept the list or alternative documentation, as appropriate, in lieu of receipts, which often are not retained (and are thus “lost”) for a variety of reasons. Finally, the provision would make patent OVC's current practice of allowing claimants to submit copies of receipts, instead of the original document.
94.32 Application deadline | Makes patent OVC's current policy that the application deadline applies to the initial application. If the initial application is submitted in a timely manner, supplemental applications will be accepted any time after that at reasonable intervals (e.g., for ongoing costs).
94.33 Investigation and analysis of claims | Modifies the prohibition on sharing victim identifying information with expert examiners/reviewers to require, instead, that OVC make reasonable efforts to minimize victim identifying information released to such reviewers. This change would allow OVC flexibility to take alternative measures to protect victim identities when redacting identifying information from voluminous medical records is not feasible.
94.41 Interim emergency payment | Changes the term “interim emergency payment” to “conditional payment” to better reflect the actual processing of claims where up-front payment may be justified. As a practical matter, conditional payments are rare, and ITVERP typically is not an ideal payment source for “emergency” needs due to the multiple reviews required prior to payment. Adds mental health care to the list of care that could be provided under a conditional payment.
94.42 Repayment and waiver of repayment | Non-substantive simplifying and conforming (to the proposed 94.41) change to delete “interim emergency or final award” and replace it with “award”.
94.51 Request for reconsideration | Non-substantive conforming change to delete “initial” to reflect OVC's current practice of allowing “initial” and “supplemental” applications. The change would clarify that the Director may make determinations based on material submitted with either type of application or request for additional information.
Reimbursement caps | Increases overall cap from $105,000 to $175,000 per claimant.
Medical expenses | Increases cap from $50,000 to $80,000. OVC has received 7 claims over the category cap since 2006; the excess averaging $17,087.89. The proposed cap would accommodate these expenses.
Mental health care | Increases cap from $5,000 to $20,000, and eliminates the timeframe during which OVC may provide reimbursement. OVC has received 57 claims (about 10%) that have requested reimbursement above the mental health cap; the excess averaging $6112.78. Increasing the category cap would have covered these expenses. The higher cap also would align better with caps in most state victim compensation programs. Eliminating the time limit on mental health costs better reflects the reality that victims have mental health needs exceeding one year. The proposed provision also makes a conforming change reflecting the proposed 94.12(u)(iv), which recognizes family members of persons missing due to a terrorist incident as victims (where such a victim “Is otherwise unable to submit a claim as a result of the act of terrorism”).
Property loss, repair, and replacement | Increases cap from $10,000 to $15,000. OVC has received 17 claims exceeding this cap; the excess averaging $5561.18. The higher cap would have covered most of these expenses.
Funeral and burial costs | Increases cap from $25,000 to $35,000. OVC received four claims exceeding this cap; the excess averaging $5646.84. The higher cap would have covered most of these expenses.
Miscellaneous expenses | Increases cap from $15,000 to $25,000. OVC received six claims exceeding this cap; the excess averaging $8693.81. The higher cap would have covered most of these expenses.

All proposed amendments would apply to claims pending determination by OVC, and to all initial and supplemental claims filed after the effective date of the final rule.

IV. Regulatory Certifications

A. Regulatory Flexibility Act

The Regulatory Flexibility Act (“RFA”, 5 U.S.C. 601-612) applies to rules that are subject to notice and comment under section 553(b) of the Administrative Procedure Act (“APA”). As noted in the discussion, below, however, regarding the applicability of the APA, this proposed rule is exempt from the notice and comment requirements under section 553(b) or other provisions of law. Consequently, the RFA does not apply.

Nevertheless, consistent with the analysis typically required by the RFA (5 U.S.C. 605(b)), OVC has reviewed this proposed regulation and by approving it certifies that it will not have a significant economic impact on a substantial number of small entities. This proposed regulation has no cost to State, local, or tribal governments, or to the private sector. The ITVERP is funded by fines, fees, penalty assessments, and bond forfeitures paid by Federal offenders, as well as gifts from private individuals, deposited into the Crime Victims Fund in the U.S. Treasury. Therefore, an analysis of the impact of this proposed regulation on such entities is not required under the Regulatory Flexibility Act (5 U.S.C. 601 et seq.).

B. Executive Orders 12866, 13563, and 14094—Regulatory Review

This proposed regulation has been drafted and reviewed in accordance with Executive Order 12866, “Regulatory Planning and Review” section 1(b), Principles of Regulation, Executive Order 13563 “Improving Regulation and Regulatory Review” section 1(b), General Principles of Regulation; and Executive Order 14094, “Modernizing Regulatory Review.” This proposed rule is not a “significant regulatory action” under Executive Order 12866, section 3(f), Regulatory Planning and Review. Accordingly, this rule has not been reviewed by the Office of Management and Budget.

Executive Order 13563 directs agencies to propose or adopt a regulation only upon a reasoned determination that its benefits justify its costs; tailor the regulation to impose the least burden on society, consistent with obtaining the regulatory objectives; and, in choosing among alternative regulatory approaches, select those approaches that maximize net benefits. Executive Order 13563 recognizes that some benefits and costs are difficult to quantify and provides that, where appropriate and permitted by law, agencies may consider and discuss qualitatively values that are difficult or impossible to quantify, including equity, human dignity, fairness, and distributive impacts.

The proposed rule would clarify and update the existing rule, to make patent in the program rule the existing OVC program policies and practices that have been developed since the program's inception, increase reimbursement category caps to reflect the actual data on victim needs gathered by OVC since 2006, and to make technical adjustments for clarity. It would not alter the underlying program structure. The cost to the federal government is largely administrative and is clearly outweighed by the government's interest, and statutory mandate, to see that U.S. victims of international terrorism are reimbursed for the expenses associated with their victimization. This proposed regulation has no cost to state, local, or tribal governments, or to the private sector. The ITVERP is funded by fines, fees, penalty assessments, and forfeitures paid by federal offenders, as well as gifts from private individuals, deposited into the Crime Victims Fund in the U.S. Treasury, and set aside in the Antiterrorism Emergency Reserve Fund, from which OVC may obligate no more than $50 million in any given year.

The proposed changes in §§ 94.12(c), 94.12(u), 94.21, 94.24, 94.31, 94.32, 94.12(g), 94.12(i), 94.12(r), 94.25, 94.33, 94.41, 94.42 and 94.51, largely codify existing agency practices, update terminology, make technical clarifications, or make simplifying or conforming changes, and thus impose no costs but provide the substantial benefit of transparency in program administration. A few changes provide OVC with some additional flexibility (e.g., to reimburse five instead of just two travelers for funeral/burial, or to characterize medical devices in either the medical or property loss category to maximize victim reimbursement), but do not create costs for non-Federal entities or individuals or materially increase Federal administrative costs.

The proposed change in section 94.23 to apply the current cap to any applications filed after the effective date of that cap, whether those applications are initial or supplemental, could result in approximately $637,328 in one-time costs. That figure assumes, conservatively, that all claimants who previously hit a category cap would file a supplemental application. This one-time outlay would not materially change the budgetary impact of this program and would be covered within the existing program funding allocation from the Crime Victims Fund. It would benefit victims by allowing them to receive reimbursement for amounts closer to the actual costs that they incurred due to a terrorist attack.

Based on the number of claims with costs exceeding the caps that were filed in each category and the average excess amount for each category (set out in the chart of proposed changes above), divided by 16 years (the span of time OVC's data regarding claims with costs exceeding the caps covers), OVC estimates that the proposed change to the category caps would create approximately $39,833 in additional claim payment costs per year from the Crime Victims Fund Anti-Terrorism Emergency Reserve. The proposed increase would not change the overall budgetary impact of this program, nor would it materially change the OVC outlays for this program on an annual basis. It would, however, have substantial benefit to the victims that incur costs above the current caps. Moreover, the proposed overall cap of $175,000, is just modestly above the 2006 cap ($105,000) as adjusted for inflation from 2006 to 2023, $158,411.

C. Administrative Procedure Act

This proposed rule concerns matters relating to “grants, benefits, or contracts,” 5 U.S.C. 553(a)(2), and is therefore exempt from the requirement of notice and comment and a 30-day delay in the effective date. Nevertheless, in its discretion, OVC has decided to solicit comments on this proposed rule.

D. Executive Order 13132—Federalism

This proposed rule will not have substantial direct effects on the States, on the relationship between the national government and the States, or on distribution of power and responsibilities among the various levels of government. Therefore, in accordance with Executive Order No. 13132, it is determined that this proposed rule does not have sufficient federalism implications to warrant the preparation of a Federalism Assessment.

E. Executive Order 12988—Civil Justice Reform (Plain Language)

This proposed rule meets the applicable standards set forth in section 3(a) and (b)(2) of Executive Order No. 12988. Pursuant to section 3(b)(1)(I) of the Executive Order, nothing in this or any previous rule (or in any administrative policy, directive, ruling, notice, guideline, guidance, or writing) directly relating to the Program that is the subject of this proposed rule is intended to create any legal or procedural rights enforceable against the United States, except as the same may be contained within 28 CFR part 94, subpart A.

F. Unfunded Mandates Reform Act of 1995

This proposed rule, when finalized, would not result in the expenditure by State, local and tribal governments, in the aggregate, or by the private sector, of $100,000,000 or more in any one year, and it will not significantly or uniquely affect small governments. Therefore, no actions were deemed necessary under the provisions of the Unfunded Mandates Reform Act of 1995.

G. Congressional Review Act

This proposed rule is not a major rule as defined by 5 U.S.C. 804.

H. Paperwork Reduction Act

This proposed rule does not propose any new, or changes to existing, “collection[s] of information” as defined by the Paperwork Reduction Act of 1995 (44 U.S.C. 3501, et seq.) and its implementing regulations at 5 CFR part 1320. The existing collection (ITVERP Application, 1121-0309) has been cleared by the Office of Management and Budget.

List of Subjects in 28 CFR Part 94

Administrative practice and procedure, Victim compensation, Claims program, International terrorism, Victim expense reimbursement, Victims of Crime Act (VOCA) of 1984.

Accordingly, for the reasons set forth in the preamble, OVC proposes to amend part 94 of chapter I of Title 28 of the Code of Federal Regulations as follows:

PART 94—CRIME VICTIM SERVICES

1. The authority citation for Part 94 continues to read as follows:

Authority: 34 U.S.C., 20103, 20106, 20110(a), 20111.

2. Amend § 94.12 by:

a. In paragraph (c), in the first sentence, removing “: except that any reimbursement received under this subpart shall be reduced by the amount of” and adding in its place “; and ”; and adding a new sentence to the end of the paragraph.

b. In paragraph (g), removing the phrase “travel for not more than two family members” and adding in its place the phrase “travel for not more than five family members”;

c. In paragraph (i), removing the term “mental retardation” and adding in its place the term “cognitive disability”;

d. In paragraph (r), adding the word “typically” before “are included in the category of”;

e. In paragraph (u)(2)(ii), at the end of the paragraph, removing the word “or”;

f. In paragraph (u)(2)(iii), removing the period and adding in its place “; or”; and

g. Adding paragraph (u)(2)(iv).

The additions read as follows:

§ 94.12 Definitions.

* * * * *

(c) * * * To the extent that a claimant is a member of the U.S. military, and the expenses claimed relate to a terrorist incident occurring in an officially designated combat zone or qualified hazardous duty area, where the member is also entitled to hostile fire pay or imminent danger pay, pursuant to 37 U.S.C. 310, OVC will presume that such pay constitutes a collateral source that offsets the expenses claimed, unless the claimant demonstrates otherwise.

* * * * *

(u) * * *

(2) * * *

(iv) Is otherwise unable to submit a claim as a result of the act of terrorism.

5. Amend § 94.21 in paragraph (a) by adding a new first sentence, to read as follows:

§ 94.12 Eligibility.

(a) Claimants may submit an initial application, and (as necessary) supplemental applications, in the form and manner required by the Director. * * *

* * * * *

6. Revise § 94.23 to read as follows:

§ 94.23 Amount of reimbursement.

Categories of expenses are capped, as set forth in the chart in the appendix to subpart A of part 94. Those caps shall be adjusted on October 1, 2028, and every five years thereafter, to reflect the change in the Consumer Price Index for All Urban Consumers, published by the Bureau of Labor Statistics, during the preceding five years; and otherwise may be adjusted, from time to time, by rulemaking. The cap in effect within a particular expense category at the time that the application (whether initial or supplemental) is received shall apply to all awards under that application. Thus, a claimant whose expenses were not reimbursable due to a previous category cap may file a supplemental application to have expenses considered under the most recent cap.

§ 94.24 [Amended]

7. Amend § 94.24 in the second sentence by removing the phrase “mailed to the claimant at his last known address” and adding in its place the phrase “sent to the claimant electronically (or mailed to his last known address)”.

8. Amend § 94.25 by revising paragraph (b) to read as follows:

§ 94.25 Collateral sources.

* * * * *

(b) Notwithstanding paragraph (a) of this section, the claimant's award under this subpart shall not be reduced by the amount that the claimant receives from a collateral source, nor shall the claimant be required to subrogate the United States to the claim for reimbursement from the collateral source, except when combined reimbursement under this subpart and any collateral source would exceed the actual expense.

9. Revise § 94.31 to read as follows:

§ 94.31 Application procedures.

(a) To receive reimbursement, a claimant must submit a completed application under this program requesting payment based on a detailed itemized list of expenses accompanied by copies of original receipts (if available) or (as permitted by the Director) appropriate alternative documentation or certification.

(b) The claimant must certify under penalty of perjury that the items and amounts submitted for reimbursement are true and correct to the best of his knowledge. In the event that it is later determined that a fraudulent certification was made, the United States may take action to recover any payment made under this section, and pursue criminal prosecution, as appropriate.

10. Amend § 94.32 by:

a. Removing the phrase “file an application” and adding in its place the phrase “file an initial application” wherever it appears; and

b. Adding a sentence to the end of the section.

The addition reads as follows:

§ 94.32 Application deadline.

* * * OVC will accept supplemental applications at any time (subject to the Director's reasonable limits on the frequency of submission), provided that the initial application was filed on time.

§ 94.33 [Amended]

11. Amend § 94.33 by removing the phrase “no identifying information for the victim or representative shall be released” and adding in its place the phrase “the Director will make reasonable efforts to minimize and safeguard any victim identifying information that is released to the reviewer”

§ 94.41 [Amended]

12. Amend § 94.41 by:

a. In the section heading, removing the words “Interim emergency” and adding in their place the word “Conditional”; and

b. Removing the term “an interim emergency payment” and adding in its place the term “a conditional payment” wherever it appears.

§ 94.42 [Amended]

13. Amend § 94.42 in the first sentence by removing the words “interim emergency award or final”.

§ 94.51 [Amended]

14. Amend § 94.51 to remove “initial” before “application”.

15. Amend Appendix to Subpart A of Part 94, by revising the Chart of Expense Categories and Limits as follows:

Appendix to Subpart A of Part 94—International Terrorism Victim Expense Reimbursement Program (ITVERP); Chart of Expense Categories and Limits

* * * * *

Expense categories | Subcategories and conditions | Expense limits
Medical expenses, including dental and rehabilitation costs | Victim's medical care, including, without limitation, treatment, cure, and mitigation of disease or injury; replacement of medical devices, including, without limitation, eyeglasses or other corrective lenses, dental services, prosthetic devices, and prescription medication; and other services rendered in accordance with a method of healing recognized by the jurisdiction in which the medical care is administered Victim's cost for physiotherapy; occupational therapy; counseling; workplace, vehicle, and home modifications For example, if a victim were to sustain a physical injury, such as blindness or paralysis, which would affect his ability to perform current professional duties, physical rehabilitation to address work skills would be appropriate | Up to $80,000.
Mental health care | Victim's (and, when victim is a minor, incompetent, incapacitated, or deceased, or is otherwise unable to submit a claim as a result of the act of terrorism, certain family members') mental health counseling costs | Up to $20,000.
Property loss, repair, and replacement | Includes crime scene cleanup, and replacement of personal property (not including medical devices) that is lost, destroyed, or held as evidence | Up to $15,000 to cover repair or replacement, whichever is less.
Funeral and burial costs | Includes, without limitation, the cost of disposition of remains, preparation of the body and body tissue, refrigeration, transportation of remains, cremation, procurement of a final resting place, urns, markers, flowers and ornamentation, costs related to memorial services, and other reasonably associated activities | Up to $35,000.
Miscellaneous expenses | Includes, without limitation, temporary lodging up to 30 days, local transportation, telephone costs, etc.; with respect to emergency travel, two family members' transportation costs to country where incident occurred (or other location, as appropriate) to recover remains, care for victim, care for victim's dependents, accompany victim to receive medical care abroad, accompany victim back to U.S., and attend to victim's affairs in host country | Up to $25,000.

Brent J. Cohen,
Acting Assistant Attorney General, Office of Justice Programs.

[FR Doc. 2025-00071 Filed 1-17-25; 8:45 am]

BILLING CODE 4410-18-P